DEPARTMENT OF AGRICULTURE

Agricultural Marketing Service

7 CFR Part 930

[Doc. No. AO-370-A8; AMS-FV-06-0213; FV07-930-2 W]

Tart Cherries Grown in the States of Michigan, New York, Pennsylvania, Oregon, Utah, Washington, and Wisconsin; Withdrawal of Proposed Rule

AGENCY: Agricultural Marketing Service, USDA.

ACTION: Withdrawal of a proposed rule.

SUMMARY: The Agricultural Marketing Service (AMS) is withdrawing a proposed rule published in the June 4, 2010 [75 FR 31719], issue of the Federal Register, inviting written exceptions to proposed amendments to Marketing Agreement and Order No. 930 (order), which regulates the handling of tart cherries grown in Michigan, New York, Pennsylvania, Oregon, Utah, Washington, and Wisconsin. The proposed rule was published in error.

DATES: The proposed rule published at 75 FR 31719, June 4, 2010, is withdrawn as of June 15, 2010.

FOR FURTHER INFORMATION CONTACT: Laurel May, Marketing Order Administration Branch, Fruit and Vegetable Programs, AMS, USDA, 1400 Independence Avenue SW., Stop 0237, Washington, DC 20250-0237; telephone: (202) 720-2491, Fax: (202) 720-8938, or E-mail: Laurel.May@ams.usda.gov.

SUPPLEMENTARY INFORMATION: The Agricultural Marketing Service (AMS) proposed to amend Marketing Agreement and Order No. 930 (order) regulating the handling of tart cherries grown in the states of Michigan, New York, Pennsylvania, Oregon, Utah, Washington, and Wisconsin. As part of the amendment process, a proposed rule was published in the Federal Register on May 12, 2009, at 74 FR 22112, and the period for filing exceptions closed June 11, 2009. A duplicate of the proposed rule was inadvertently published in the Federal Register on June 4, 2010, at 75 FR 31719. However, it is not AMS's intention to reopen the comment period. Accordingly, the proposed rule published at 75 FR 31719 in the June 4, 2010, issue of the Federal Register is hereby withdrawn.

Authority: 7 U.S.C. 601-674.

Dated: June 9, 2010.
Rayne Pegg,
Administrator, Agricultural Marketing Service.

[FR Doc. 2010-14287 Filed 6-14-10; 8:45 am]

BILLING CODE P